DEPARTMENT OF TRANSPORTATION

Federal Railroad Administration

[Docket No. FRA-2021-0006-N-18]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) abstracted below to the Office of Management and Budget (OMB) for review and comment. The ICR describes the information collection and its expected burden. On October 22, 2021, FRA published a notice providing a 60-day period for public comment on the ICR.

DATES: Interested persons are invited to submit comments on or before February 7, 2022.

ADDRESSES: Written comments and recommendations for the proposed ICR should be sent within 30 days of publication of this notice to www.reginfo.gov/public/do/PRAMain. Find the particular ICR by selecting “Currently under 30-day Review—Open for Public Comments” or by using the search function.

FOR FURTHER INFORMATION CONTACT: Ms. Hodan Wells, Information Collection Clearance Officer at email: Hodan.Wells@dot.gov or telephone: (202) 493-0440.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On October 22, 2021, FRA published a 60-day notice in the Federal Register soliciting comment on the ICR for which it is now seeking OMB approval. See 86 FR 58721. FRA received no comments in response to this 60-day notice.

Before OMB decides whether to approve the proposed collection of information, it must provide 30 days for public comment. Federal law requires OMB to approve or disapprove paperwork packages between 30 and 60 days after the 30-day notice is published. 44 U.S.C. 3507(b)-(c); 5 CFR 1320.10(b); see also 60 FR 44978, 44983 (Aug. 29, 1995). OMB believes the 30-day notice informs the regulated community to file relevant comments and affords the agency adequate time to digest public comments before it renders a decision. 60 FR 44983 (Aug. 29, 1995). Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Railroad Signal System Requirements.

OMB Control Number: 2130-0006.

Abstract: The information collected under 49 CFR parts 233, 235, and 236 is used by FRA to monitor compliance with FRA's inspection and testing requirements for signal systems, as well as to review and approve requests to discontinue or materially modify existing signal systems. The information collected is also used by FRA to monitor signal failures (e.g., failure of a signal appliance, device, method, or system to function or indicate as required by 49 CFR part 236 that results in an incorrect signal or other condition hazardous to the movement of a train).

For instance:

• § 233.5 requires each railroad to report to FRA within 24 hours after learning of an accident or incident arising from signal failure.

• § 233.7 requires each railroad to report signal failures within 15 days in accordance with the instructions printed on Form FRA F 6180.14.

• § 235.5 requires railroads to apply for FRA approval to discontinue or materially modify railroad signal systems.

• § 235.8 allows railroads to seek relief from the requirements in 49 CFR part 236.

• § 235.20 describes the protest process, including essential information that must be included in the protest, the address for filing the protest, the time limit for filing the protest, and the requirement that a protestant requesting a public hearing explain why written statements cannot be used to explain his or her position.

• § 236.110 requires that the results of signal system tests required under §§ 236.102 through 236.109; §§ 236.376 through 236.387; §§ 236.576 and 236.577; and §§ 236.586 through 236.589 be recorded on pre-printed forms provided by the railroad or by electronic means, subject to FRA approval.

• § 236.590 requires railroads to clean and inspect the automatic train stop, train control, or cab signal pneumatic apparatus on locomotives and then record the results of the inspection as required by § 229.29(a) of this chapter.

Type of Request: Extension without change (with changes in estimates) of a currently approved collection.

Affected Public: Businesses.

Form(s): FRA F 6180.14.¹

¹ FRA made one minor change to Form FRA F 6180.14 by replacing “mail to” with “email to.”

Respondent Universe: 754 railroads.

Frequency of Submission: On occasion.

Total Estimated Annual Responses: 943,412.

Total Estimated Annual Burden: 222,747 hours.

Total Estimated Annual Burden Hour Dollar Cost Equivalent: $13,330,408.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2022-00108 Filed 1-6-22; 8:45 am]

BILLING CODE 4910-06-P